NUCLEAR REGULATORY COMMISSION

[Docket No. 52-025-LA-3; ASLBP No. 20-967-03-LA-BD01]

Southern Nuclear Operating Company; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

SOUTHERN NUCLEAR OPERATING COMPANY

(VOGTLE ELECTRIC GENERATING PLANT, UNIT 3)

This proceeding involves an application by Southern Nuclear Operating Company (SNC) to amend the combined license for the Vogtle Electric Generating Plant, Unit 3, located in Burke County, Georgia. SNC proposes to modify the north-south minimum seismic gap requirements above grade between the nuclear island and the annex building west of Column Line I from elevation 141 feet through 154 feet to accommodate as-built localized non-conformances. In response to a notice filed in the Federal Register, see 85 FR 13,944 (Mar. 10, 2020), the Blue Ridge Environmental Defense League and its chapter Concerned Citizens of Shell Bluff (collectively, BREDL) filed a petition to intervene and request for hearing. See Petition for Leave to Intervene and Request for Hearing by [BREDL] Regarding [SNC's] Request for a License Amendment and Exemption of Unit 3 Auxiliary Building Wall 11 Seismic Gap Requirements, LAR-20-001 (May 11, 2020).

The Board is comprised of the following Administrative Judges: G. Paul Bollwerk, III, Chairman, Atomic Safety and Licensing Board Panel, U.S. Nuclear Regulatory Commission, Washington, DC 20555-0001.

Dr. Sue H. Abreu, Atomic Safety and Licensing Board Panel, U.S. Nuclear Regulatory Commission, Washington, DC 20555-0001.

Dr. Gary S. Arnold, Atomic Safety and Licensing Board Panel, U.S. Nuclear Regulatory Commission, Washington, DC 20555-0001.

All correspondence, documents, and other materials shall be filed in accordance with the NRC E-Filing rule. See 10 CFR 2.302.

Dated: May 19, 2020.
E. Roy Hawkens,
Chief Administrative Judge, Atomic Safety and Licensing Board Panel, Rockville, Maryland.

[FR Doc. 2020-11140 Filed 5-22-20; 8:45 am]

BILLING CODE 7590-01-P